Title 3—

The President

Executive Order 13426 of March 6, 2007

Establishing a Commission on Care for America's Returning Wounded Warriors and a Task Force on Returning Global War on Terror Heroes

By the authority vested in me as President by the Constitution and the laws of the United States of America, and to provide a comprehensive review of the care provided to America's returning Global War on Terror service men and women from the time they leave the battlefield through their return to civilian life, it is hereby ordered as follows:

Section 1. Establishment of Commission. There is established the President's Commission on Care for America's Returning Wounded Warriors (Commission).

Sec. 2. Membership of Commission. The Commission shall be composed of nine members appointed by the President. The President shall designate two Co-Chairs from among the members of the Commission.

Sec. 3. Mission of Commission. The mission of the Commission shall be to:

(a) examine the effectiveness of returning wounded service members' transition from deployment in support of the Global War on Terror to successful return to productive military service or civilian society, and recommend needed improvements;

(b) evaluate the coordination, management, and adequacy of the delivery of health care, disability, traumatic injury, education, employment, and other benefits and services to returning wounded Global War on Terror service members by Federal agencies as well as by the private sector, and recommend ways to ensure that programs provide high-quality services;

(c) (i) analyze the effectiveness of existing outreach to service members regarding such benefits and services, and service members' level of awareness of and ability to access these benefits and services, and (ii) identify ways to reduce barriers to and gaps in these benefits and services; and

(d) consult with foundations, veterans service organizations, non-profit groups, faith-based organizations, and others as appropriate, in performing the Commission's functions under subsections (a) through (c) of this section.

Sec. 4. Administration of Commission.

(a) The Secretary of Defense shall, to the extent permitted by law, provide administrative support and funding for the Commission. To the extent permitted by law, office space, analytical support, and staff support for the Commission shall be provided by the Department of Defense.

(b) Members of the Commission shall serve without any compensation for their work on the Commission. Members of the Commission appointed from among private citizens of the United States, while engaged in the work of the Commission, may be allowed travel expenses, including per diem in lieu of subsistence, as authorized by law for persons serving intermittently in Government service (5 U.S.C. 5701-5707), consistent with the availability of funds.

(c) The Co-Chairs of the Commission shall select an Executive Director to coordinate administration of the Commission.

(d) The heads of executive branch departments and agencies shall, to the extent permitted by law, provide the Commission with information as requested by the Co-Chairs.

(e) The Co-Chairs of the Commission shall convene and preside at the meetings of the Commission, determine its agenda, and direct its work.

(f) The functions of the President under the Federal Advisory Committee Act, as amended (5 U.S.C. App.)(Act), except for those in section 6 of that Act, that are applicable to the Commission, shall be performed by the Secretary of Defense, in accordance with the guidelines that have been issued by the Administrator of General Services.

Sec. 5. Report of Commission. The Commission shall report its recommendations to the President through the Secretary of Defense and the Secretary of Veterans Affairs. The Commission shall issue a final report by June 30, 2007, unless the Co-Chairs provide written notice to the President that an extension is necessary, in which case the Commission shall issue the final report by July 31, 2007.

Sec. 6. Termination of Commission. The Commission shall terminate 30 days after submitting its final report, unless extended by the President prior to that date.

Sec. 7. Establishment of Task Force. The Secretary of Veterans Affairs (Secretary) shall establish within the Department of Veterans Affairs for administrative purposes only an Interagency Task Force on Returning Global War on Terror Heroes (Task Force).

Sec. 8. Membership and Operation of Task Force. The Task Force shall consist exclusively of the following members, or their designees who shall be at the Under Secretary level (or its equivalent) or higher:

(a) the Secretary of Veterans Affairs, who shall serve as Chair;

(b) the Secretary of Defense;

(c) the Secretary of Labor;

(d) the Secretary of Health and Human Services;

(e) the Secretary of Housing and Urban Development;

(f) the Secretary of Education;

(g) the Director of the Office of Management and Budget;

(h) the Administrator of the Small Business Administration; and

(i) other officers or employees of the United States, as determined by the Secretary.

The Secretary or the Secretary's designee shall convene and preside at meetings of the Task Force and direct its work. The Secretary shall designate an official of the Department of Veterans Affairs to serve as the Executive Secretary of the Task Force, and the Executive Secretary shall head any staff assigned to the Task Force.

Sec. 9. Mission of Task Force. The mission of the Task Force shall be to:

(a) identify and examine existing Federal services that currently are provided to returning Global War on Terror service members;

(b) identify existing gaps in such services;

(c) seek recommendations from appropriate Federal agencies on ways to fill those gaps as effectively and expeditiously as possible using existing resources; and

(d) (i) ensure that in providing services to these service members, appropriate Federal agencies are communicating and cooperating effectively, and (ii) facilitate the fostering of agency communications and cooperation through informal and formal means, as appropriate.

Sec. 10. Administration of Task Force. The Secretary of Veterans Affairs shall, to the extent permitted by law, provide administrative support and funding for the Task Force.

Sec. 11. Action Plan of Task Force. Consistent with applicable law, the Task Force shall outline a Government-wide action plan that identifies existing Federal services for returning Global War on Terror service men and women and that ensures the provision of such services to those service members as effectively and expeditiously as possible. The Task Force shall submit the action plan to the President within 45 days of the date of this order.

Sec. 12. Termination of Task Force. The Secretary, with the approval of the President, shall terminate the Task Force upon the completion of its duties.

Sec. 13. General Provisions.

(a) Nothing in this order shall be construed to impair or otherwise affect (i) authority granted by law to an agency or the head thereof, or (ii) functions of the Director of the Office of Management and Budget relating to budget, administrative, or legislative proposals.

(b) This order shall be implemented consistent with applicable law and subject to the availability of appropriations.

(c) This order is not intended to, and does not, create any right or benefit, substantive or procedural, enforceable at law or in equity, against the United States, its departments, agencies, entities, officers, employees, agents, or any other person.

THE WHITE HOUSE,

March 6, 2007.

[FR Doc. 07-1137

Filed 3-7-07; 10:57 am]

Billing code 3195-01-P